DEPARTMENT OF COMMERCE

National Oceanic and Atmospheric Administration

RIN 0648-XV051

North Pacific Fishery Management Council; Public Meeting

AGENCY: National Marine Fisheries Service (NMFS), National Oceanic and Atmospheric Administration (NOAA), Commerce.

ACTION: Notice of webinar.

SUMMARY: The North Pacific Fishery Management Council (Council) will hold a webinar on September 20, 2019.

DATES: The webinar will be held on Friday, September 20, 2019, from 9 a.m. to 1 p.m., Pacific Standard Time.

ADDRESSES: The meeting will be held at the Alaska Fishery Science Center in the Traynor Room 2076, 7600 Sand Point Way NE, Building 4, Seattle, WA 98115. Adobe Connect web address is: https://npfmc.adobeconnect.com/abm/.

Council address: North Pacific Fishery Management Council, 605 W 4th Ave., Suite 306, Anchorage, AK 99501-2252; telephone: (907) 271-2809.

FOR FURTHER INFORMATION CONTACT: Diana Stram, Council staff; telephone: (907) 271-2809.

SUPPLEMENTARY INFORMATION:

Agenda

Friday, September 20, 2019

The Council is hosting a webinar for the presentation of the draft Environmental Impact Statement for the BSAI Halibut abundance-based management (ABM) prohibited species catch limits. The purpose of the webinar is to provide the public with an understanding of the contents of the analysis and provide an opportunity for clarifying questions with the analysts. This will provide the public with a greater understanding of the analysis and help facilitate written public comments to the Council prior to the written comment deadline for the October Council meeting. Analysts will provide a presentation on the analysis, which will be web broadcast via Adobe Connect. Following the presentation, there will be a question and answer period via online submissions of the questions through meetings.npfmc.org/Meeting/Details/905, as well as in-person for public attending the meeting.

The Agenda is subject to change, and the latest version will be posted at meetings.npfmc.org/Meeting/Details/905 prior to the meeting, along with meeting materials.

Public Comment

Public comment will be limited to written comments only and should be submitted electronically to meetings.npfmc.org/Meeting/Details/905.

Special Accommodations

The meeting is physically accessible to people with disabilities. Requests for sign language interpretation or other auxiliary aids should be directed to Shannon Gleason at (907) 271-2809 at least 7 working days prior to the meeting date.

Authority: 16 U.S.C. 1801 et seq.

Dated: September 3, 2019.
Tracey L. Thompson,
Acting Deputy Director, Office of Sustainable Fisheries, National Marine Fisheries Service.

[FR Doc. 2019-19267 Filed 9-5-19; 8:45 am]

BILLING CODE 3510-22-P